DEPARTMENT OF TRANSPORTATION

Federal Aviation Administration

14 CFR Part 39

[Docket No. FAA-2005-22919; Directorate Identifier 2005-NM-087-AD; Amendment 39-14582; AD 2006-09-11]

RIN 2120-AA64

Airworthiness Directives; Airbus Model A319-100, A320-200, A321-100, and A321-200 Series Airplanes

AGENCY: Federal Aviation Administration (FAA), Department of Transportation (DOT).

ACTION: Final rule; correction.

SUMMARY: The FAA is correcting a typographical error in an existing airworthiness directive (AD) that was published in the Federal Register on May 12, 2006. The error resulted in an incorrect component maintenance manual number. This AD applies to certain Airbus Model A319-100, A320-200, A321-100, and A321-200 series airplanes. This AD requires repetitive inspections for corrosion in the inside and outside lower walls of each type A, D, E, and F lavatory wall that has at least one wall-mounted cabin attendant seat, and related investigative and corrective actions if necessary.

DATES: This correction is effective June 3, 2010. The effective date of AD 2006-09-11 remains June 16, 2006.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Tim Dulin, Aerospace Engineer, International Branch, ANM-116, Transport Airplane Directorate, FAA, 1601 Lind Avenue, SW., Renton, Washington 98057-3356; telephone (425) 227-2141; fax (425) 227-1149.

SUPPLEMENTARY INFORMATION: On April 26, 2006, the FAA issued AD 2006-09-11, Amendment 39-14582 (71 FR 27595, May 12, 2006), for certain Airbus Model A319-100, A320-200, A321-100, and A321-200 series airplanes. The AD requires repetitive inspections for corrosion in the inside and outside lower walls of each type A, D, E, and F lavatory wall that has at least one wall-mounted cabin attendant seat, and related investigative and corrective actions if necessary.

As published, paragraphs (h)(1)(iii) and (h)(2)(ii) of the AD specifies in error Airbus Component Maintenance Manual Lavatory E 25-41-52. Airbus Component Maintenance Manual Lavatory E 25-41-52 does not exist. The correct Airbus Component Maintenance Manual Lavatory E is 25-43-52.

No other part of the regulatory information has been changed; therefore, the final rule is not republished in the Federal Register.

The effective date of this AD remains June 16, 2006.

§ 39.13 [Corrected]

In the Federal Register of May 12, 2006, on page 27597, in the third column, paragraph (h)(1)(iii) of AD 2006-09-11 is corrected to read as follows:

* * * * *

(iii) Airbus CMM Lavatory E 25-43-52.

* * * * *

In the Federal Register of May 12, 2006, on page 27597, in the third column, paragraph (h)(2)(ii) of AD 2006-09-11 is corrected to read as follows:

* * * * *

(ii) For lavatories D and E: Airbus Service Bulletin A320-25-1365, dated February 18, 2005, references Airbus CMM Lavatory D 25-43-51; and Airbus CMM Lavatory E 25-43-52, as applicable, as an additional source of guidance for doing the replacement.

* * * * *

Issued in Renton, Washington, on May 25, 2010.
Ali Bahrami,
Manager, Transport Airplane Directorate, Aircraft Certification Service.

[FR Doc. 2010-13231 Filed 6-2-10; 8:45 am]

BILLING CODE 4910-13-P